DEPARTMENT OF HEALTH AND HUMAN SERVICES

Administration for Children and Families

Submission for OMB Review; Comment Request

Title: Affordable Care Act Tribal Maternal, Infant and Early Childhood Home Visiting Program Annual Report.

OMB No.: 0970-NEW.

Description: Section 511(h)(2)(A) of Title V of the Social Security Act, as added by Section 2951 of the Patient Protection and Affordable Care Act of 2010 (Pub. L. 111-148, Affordable Care Act or ACA), authorizes the Secretary of HHS to award grants to Indian Tribes (or a consortium of Indian Tribes), Tribal Organizations, or Urban Indian Organizations to conduct an early childhood home visiting program.

The legislation sets aside 3 percent of the total ACA Maternal, Infant, and Early Childhood Home Visiting (MIECHV) Program appropriation (authorized in Section 511(j)) for grants to Tribal entities and requires that the Tribal grants, to the greatest extent practicable, be consistent with the requirements of the Maternal, Infant, and Early Childhood Home Visiting Program grants to States and territories (authorized in Section 511(c)), and include (1) Conducting a needs assessment similar to the assessment required for all States under the legislation and (2) establishing quantifiable, measurable 3- and 5-year benchmarks consistent with the legislation.

The Administration for Children and Families, Office of Child Care, in collaboration with the Health Resources and Services Administration, Maternal and Child Health Bureau, has awarded grants for the Tribal Maternal, Infant, and Early Childhood Home Visiting Program (Tribal MIECHV). The Tribal MIECHV grant awards support 5-year cooperative agreements to conduct community needs assessments, plan for and implement (in accordance with an Implementation Plan submitted at the end of Year 1) high-quality, culturally-relevant, evidence-based and promising home visiting programs in at-risk Tribal communities, and participate in research and evaluation activities to build the knowledge base on home visiting among Native populations.

Section 511(e)(8)(A) of the Social Security Act, as added by Section 2951 of the Affordable Care Act, requires that grantees under the MIECHV program for States and Jurisdictions submit an annual report to the Secretary of Health and Human Services regarding the program and activities carried out under the program, including such data and information as the Secretary shall require. As described above, Section 511(h)(2)(A) further states that the requirements for the MIECHV grants to Tribes, Tribal Organizations, and Urban Indian Organizations are to be consistent, to the greatest extent practicable, with the requirements for grantees under the MIECHV program for States and Jurisdictions. In the Tribal Maternal, Infant, and Early Childhood Home Visiting Program Guidance for Submitting a Needs Assessment and Plan for Responding to Identified Needs (Phase 2 Implementation Plan) (OMB Control No. 0970-0389, Expiration Date 6/30/14), Tribal MIECHV grantees were notified that in Years 2-5 of their grant they must comply with the requirement for submission of an Annual Report to the Secretary regarding the program and activities carried out under the program. This report shall be submitted to HHS by Tribal MIECHV grantees 90 days following the end of Years 2-5 of the grant.

This report shall address the following:

Update on Home Visiting Program Goals and Objectives.

Update on the Implementation of Home Visiting Program in Targeted Community(ies).

Progress toward Meeting Legislatively Mandated Benchmark Requirements.

Update on Rigorous Evaluation Activities.

Home Visiting Program Continuous Quality Improvement (CQI) Efforts.

Administration of Home Visiting Program.

Technical Assistance Needs.

Respondents: Affordable Care Act Tribal Maternal, Infant, and Early Childhood Home Visiting Program Year 2-5 Grantees.

Annual Burden Estimates
Instrument | Number of respondents | Number of responses per respondent | Average burden hours per response | Total burden hours
Affordable Care Act Tribal Maternal, Infant, and Early Childhood Home Visiting Program Guidance for Submitting an Annual Report to the Secretary | 25 | 1 | 50 | 1,250

Estimated Total Annual Burden Hours: 1,250.

Additional Information: Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-7285, Email: oira_submission@omb.eop.gov, Attn: Desk Officer for the Administration for Children and Families.

Robert Sargis,
Reports Clearance Officer.

[FR Doc. 2012-14185 Filed 6-11-12; 8:45 am]

BILLING CODE 4184-01-P